DEPARTMENT OF HOMELAND SECURITY

Federal Emergency Management Agency

44 CFR Part 65

[Docket ID FEMA-2011-0002; Internal Agency Docket No. FEMA-B-1195]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Coconino | City of Page (10-09-3257P) | March 4, 2011; March 11, 2011; The Arizona Daily Sun | The Honorable Lyle Dimbatt, Mayor, City of Page, P.O. Box 4301, Page, AZ 86040 | July 11, 2011 | 040113
Coconino | Unincorporated areas of Coconino County (10-09-3257P) | March 4, 2011; March 11, 2011; The Arizona Daily Sun | The Honorable Mandy Metzger, Chairperson, Coconino County Board of Supervisors, 219 East Cherry Avenue, Flagstaff, AZ 86001 | July 11, 2011 | 040019
California:
Orange | City of Orange; (10-09-3115P) | March 21, 2011; March 28, 2011; The Orange County Register | The Honorable Carolyn V. Cavecche, Mayor, City of Orange, 300 East Chapman Avenue, Orange, CA 92866 | April 15, 2011 | 060228
Riverside | Unincorporated areas of Riverside County (10-09-2063P) | March 18, 2011; March 25, 2011; The Press-Enterprise | The Honorable Bob Buster, Chairperson, Riverside County Board of Supervisors, 4080 Lemon Street, Riverside, CA 92502 | July 25, 2011 | 060245
San Benito | City of Hollister (10-09-2357P) | March 8, 2011; March 15, 2011; The Free Lance | The Honorable Victor Gomez, Mayor, City of Hollister, 375 5th Street, Hollister, CA 95023 | July 13, 2011 | 060268
San Benito | Unincorporated areas of San Benito County (10-09-2357P) | March 8, 2011; March 15, 2011; The Free Lance | The Honorable Anthony Botelho, Chairman, San Benito County Board of, Supervisors, 481 4th Street, 1st Floor, Hollister, CA 95023 | July 13, 2011 | 060267
Ventura | City of Simi Valley (10-09-3242P) | March 9, 2011; March 16, 2011; The Ventura County Star | The Honorable Bob Huber, Mayor, City of Simi Valley, 2929 Tapo Canyon Road, Simi Valley, CA 93063 | July 14, 2011 | 060421
Colorado:
Arapahoe | City of Littleton (11-08-0082P) | March 18, 2011; March 25, 2011; The Denver Post | The Honorable Doug Clark, Mayor, City of Littleton, 2255 West Berry Avenue, Littleton, CO 80165 | April 14, 2011 | 080017
Arapahoe | Town of Columbine Valley (11-08-0082P) | March 18, 2011; March 25, 2011; The Denver Post | The Honorable Gale Christy, Mayor, Town of Columbine Valley, 2 Middlefield Road, Columbine Valley, CO 80123 | April 14, 2011 | 080014
Arapahoe | Unincorporated areas of Arapahoe County (11-08-0082P) | March 18, 2011; March 25, 2011; The Denver Post | The Honorable Rod Bockenfeld, Chairman, Arapahoe County, Board of Commissioners, 5334 South Prince Street, Littleton, CO 80166 | April 14, 2011 | 080011
Douglas | Unincorporated areas of Douglas County (11-08-0287P) | March 10, 2011; March 17, 2011; The Douglas County News-Press | The Honorable Jill Repella, Chair, Douglas County, Board of Commissioners, 100 3rd Street, Castle Rock, CO 80104 | February 28, 2011 | 080049
Florida:
Duval | City of Jacksonville (11-04-3277P) | March 18, 2011; March 25, 2011; The Jacksonville Daily Record | The Honorable John Peyton, Mayor, City of Jacksonville, 117 West Duval Street, Suite 400, Jacksonville, FL 32202 | March 14, 2011 | 120077
Orange | Unincorporated areas of Orange County (10-04-0673P) | February 10, 2011; February 17, 2011; The Orlando Weekly | The Honorable Teresa Jacobs, Mayor, Orange County, 201 South Rosalind Avenue, 5th Floor, Orlando, FL 32801 | June 17, 2011 | 120179
Orange | Unincorporated areas of Orange County (10-04-7471P) | February 10, 2011; February 17, 2011; The Orlando Weekly | The Honorable Teresa Jacobs, Mayor, Orange County, 201 South Rosalind Avenue, 5th Floor, Orlando, FL 32801 | June 17, 2011 | 120179
Sarasota | Unincorporated areas of Sarasota County (11-04-1370P) | March 16, 2011; March 23, 2011; The Sarasota Herald-Tribune | The Honorable Nora Patterson, Chairperson, Sarasota County Board of Commissioners, 1660 Ringling Boulevard, Sarasota, FL 34236 | July 21, 2011 | 125144
Wakulla | Unincorporated areas of Wakulla County (10-04-8135P) | March 31, 2011; April 7, 2011; The Wakulla News | The Honorable Tim Barden, Interim Wakulla County Administrator, P.O. Box 1263, Crawfordville, FL 32327 | March 25, 2011 | 120315
Georgia:
Fulton | City of East Point (09-04-8416P) | March 7, 2011; March 14, 2011; The Daily Report | The Honorable Crandall O. Jones, City of East Point Manager, 2777 East Point Street, East Point, GA 30344 | July 12, 2011 | 130087
Troup | City of LaGrange (10-04-5810P) | March 11, 2011; March 18, 2011; The LaGrange Daily News | The Honorable Jeff Lukken, Mayor, City of LaGrange, 200 Ridley Avenue, LaGrange, GA 30240 | July 18, 2011 | 130177
Hawaii:
Honolulu | City and County of Honolulu (11-09-0171P) | March 25, 2011; April 1, 2011; The Honolulu Star-Advertiser | The Honorable Peter B. Carlisle, Mayor, City and County of Honolulu, 530 South King Street, Room 300, Honolulu, HI 96813 | March 21, 2011 | 150001
Maui | Unincorporated areas of Maui County (10-09-3595P) | March 4, 2011; March 11, 2011; The Maui News | The Honorable Alan M. Arakawa, Mayor, Maui County, 250 South High Street, Wailuku, HI 96793 | February 24, 2011 | 150003
Mississippi:
DeSoto | City of Olive Branch (10-04-5201P) | March 31, 2011; April 7, 2011; The DeSoto Times Tribune | The Honorable Sam Rikard, Mayor, City of Olive Branch, 9200 Pigeon Roost Road, Olive Branch, MS 38654 | August 5, 2011 | 280286
North Carolina:
Ashe | Unincorporated areas of Ashe County (10-04-3410P) | February 18, 2011; February 25, 2011; The Jefferson Post | Mr. Dan McMillan, Ashe County Manager, 150 Government Circle, Suite 2500, Jefferson, NC 28640 | June 27, 2011 | 370007
Buncombe | Town of Montreat (10-04-3559P) | March 10, 2011; March 17, 2011; The Black Mountain News | The Honorable Letta Jean Taylor, Mayor, Town of Montreat, P.O. Box 95, Montreat, NC 28757 | July 15, 2011 | 370476
Columbus | City of Whiteville (10-04-6817P) | February 24, 2011; March 3, 2011; The News Reporter | The Honorable Terry Mann, Mayor, City of Whiteville, 317 South Madison Street, Whiteville, NC 28472 | February 17, 2011 | 370071
Columbus | Unincorporated areas of Columbus County (10-04-6817P) | February 24, 2011; March 3, 2011; The News Reporter | The Honorable Giles Byrd, Chairman, Columbus County Board of, Commissioners, 111 Washington Street, Whiteville, NC 28472 | February 17, 2011 | 370305
Rutherford | Village of Chimney Rock (10-04-3339P) | February 18, 2011; February 25, 2011; The Daily Courier | The Honorable Barbara Meliski, Mayor, Village of Chimney Rock, P.O. Box 300, Chimney Rock, NC 28720 | February 11, 2011 | 370487
Wake | City of Raleigh (10-04-3939P) | February 15, 2011; February 22, 2011; The News & Observer | The Honorable Charles Meeker, Mayor, City of Raleigh, P.O. Box 590, 222 West Hargett Street, Raleigh, NC 27602 | June 22, 2011 | 370243
Tennessee:
Franklin | City of Decherd (10-04-2240P) | March 4, 2011; March 11, 2011; The Herald-Chronicle | The Honorable Betty Don Henshaw, Mayor, City of Decherd, 1301 West Main Street, Decherd, TN 37324 | February 24, 2011 | 470054
Franklin | City of Winchester (10-04-2240P) | March 4, 2011; March 11, 2011; The Herald-Chronicle | The Honorable Terry Harrell, Mayor, City of Winchester, 7 South High Street, Winchester, TN 37398 | February 24, 2011 | 470056
Utah:
Washington | City of Washington (10-08-1023P) | March 11, 2011; March 18, 2011; The Spectrum | The Honorable Ken Neilson, Mayor, City of Washington, 111 North 100 East, Washington, UT 84780 | February 28, 2011 | 490182
Wyoming:
Sweetwater | City of Rock Springs (10-08-0509P) | March 22, 2011; March 29, 2011; The Rocket-Miner | The Honorable Carl Demshar, Mayor, City of Rock Springs, 212 D Street, Rock Springs, WY 82901 | July 27, 2011 | 560051
Sweetwater | Unincorporated areas of Sweetwater County (10-08-0509P) | March 22, 2011; March 29, 2011; The Rocket-Miner | The Honorable Debby Dellai Boese, Chairman, Sweetwater County, Board of Commissioners, 80 West Flaming Gorge Way, Suite 109, Green River, WY 82935 | July 27, 2011 | 560087

(Catalog of Federal Domestic Assistance No. 97.022, “Flood Insurance.”)

Dated: April 28, 2011.
Sandra K. Knight,
Deputy Federal Insurance and Mitigation Administrator, Mitigation, Department of Homeland Security, Federal Emergency Management Agency.

[FR Doc. 2011-11306 Filed 5-9-11; 8:45 am]

BILLING CODE 9110-12-P